DEPARTMENT OF STATE

[Public Notice 7103]

Renewal of the Charter of the United States International Telecommunication Advisory Committee

SUMMARY: The Charter of the International Telecommunication Advisory Committee (ITAC) has been renewed for an additional two years on July 29, 2010.

The ITAC was established pursuant to the Federal Advisory Committee Act under the general authority of the Secretary of State and the Department of State as set forth in Title 22, sections 2656 and 2707 of the United States Code. The purpose of the ITAC is to advise the Department of State with respect to, and provide strategic planning recommendations on, telecommunication and information policy matters related to the United States' participation in the work of the International Telecommunication Union, the Permanent Consultative Committees of the Organization of American States Inter-American Telecommunication Commission, the Organization of Economic Cooperation and Development, and other international bodies addressing telecommunications.

For Additional Information Contact: Julian Minard in the Office of Multilateral Affairs, International Communications and Information Policy, Bureau of Economic, Energy and Business Affairs, Department of State, at minardje@state.gov or at (202) 647-5202. Anyone interested in the work of this advisory committee may subscribe to an e-mail service that provides time-sensitive information about preparations for upcoming international meetings. This service is free. To sign up, contact Mr. Minard.

Dated: August 9, 2010.
James G. Ennis,
International Communications & Information Policy, U.S. Department of State.

[FR Doc. 2010-20024 Filed 8-12-10; 8:45 am]

BILLING CODE 4710-07-P